DEPARTMENT OF DEFENSE

Department of the Army; Corps of Engineers

Intent To Prepare a Draft Environmental Impact Statement for the Expansion of an Operating Open Pit Taconite Mine and Expansion of an Operating Taconite Ore Processing Facility Proposed by U.S. Steel—Minnesota Ore Operations Near Keewatin in Itasca County and St. Louis County, MN

AGENCY: Department of the Army, U.S. Army Corps of Engineers, DOD.

ACTION: Notice of intent.

SUMMARY: U.S. Steel—Minnesota Ore Operations (U.S. Steel) has applied to the St. Paul District, Corps of Engineers (Corps) for a Clean Water Act Section 404 permit to discharge fill material into jurisdictional wetlands to facilitate the expansion of an operating open pit taconite mine and expansion of an operating taconite ore processing facility near Keewatin in Itasca County and St. Louis County, MN. Tailings would be discharged into an existing, operating tailings basin. The proposed project is known as the Keetac Expansion Project. Iron ore mining and taconite pellet production have been on-going at the Keetac site since 1967, when the original Phase I taconite processing plant began operation. In 1977, the Phase II expansion added a second grate-kiln pellet line. The Phase I facility was idled in December 1980, leaving the Phase II facility as the only operating pellet production line. U.S. Steel now proposes to increase the capacity at the Keetac facility by restarting the Phase I line and upgrading the mining, concentrating, and agglomerating processes. The restart would involve the installation of energy-efficient technologies in addition to new emission controls. The expansion would increase the project impact area by approximately 1,272 acres to a total of approximately 12,864 acres. The project would continue to operate 24 hours per day; 365 days per year. Taconite pellet production output would increase by 3.6 million tons to a total output of 9.6 million tons per year. The mining process would require the construction of overburden, waste rock, and lean ore stockpiles adjacent to the open pit mine. There is currently adequate ore crushing capacity for the proposed expansion. The existing tailings basin would be expanded slightly in order to reinforce the dikes so that the height of the tailings can be increased. The currently permitted mine could also be used to provide ore for the proposed expanded operation, but this would reduce the life of the mine and therefore an expansion of the mine is proposed to maintain twenty-five years of permitted capacity.

The project would require the discharge of fill material into approximately 620 acres of wetlands. While some of the wetlands may be isolated, the majority of the wetlands are abutting or adjacent to an unnamed tributary to Welcome Creek, which is a tributary to O'Brien Creek, which is a tributary to the Swan River, which is a tributary to the Mississippi River, which is a navigable water of the United States. U.S. Steel proposes to utilize approximately 395 acres of wetlands that have been restored and are being monitored adjacent to the existing tailings basin to compensate for the first five years of lost wetland functions and values that would be caused by the proposed project. Those restored wetlands have been identified as being suitable for wetland banking. In addition, U.S. Steel will submit a compensatory wetland mitigation plan to identify compensation for the remainder of the proposed wetland impacts. The discharge of dredged or fill material into waters of the United States requires a permit issued by the Corps under Section 404 of the Clean Water Act. The Final Environmental Impact Statement (FEIS) will be used as a basis for the permit decision and to ensure compliance with the National Environmental Policy Act (NEPA).

ADDRESSES: Questions concerning the Draft Environmental Impact Statement (DEIS) can be addressed to Mr. Jon K. Ahlness, Regulatory Branch, by letter at U.S. Army Corps of Engineers, 190 Fifth Street East, Suite 401, St. Paul, MN 55101-1638, by telephone or by e-mail at jon.k.ahlness@usace.army.mil.

FOR FURTHER INFORMATION CONTACT: Mr. Jon K. Ahlness, (651) 290-5381.

SUPPLEMENTARY INFORMATION: The Corps and the State of Minnesota will jointly prepare the DEIS. The Corps is the lead federal agency and the Minnesota Department of Natural Resources (MnDNR) is the lead state agency. To determine issues to be addressed in the DEIS, a public scoping process will be conducted. The MnDNR, with assistance from the Corps, will prepare and release to the public a Draft Scoping Decision Document (Draft SDD) and a Scoping Environmental Assessment Worksheet (SEAW). Federal, state, and local agencies; the general public; interested private organizations and parties; and affected Native American tribes will have 30 days to provide comments on those two documents. During the 30-day public comment period, the Corps and the MnDNR will jointly conduct a public scoping meeting. The meeting will be held on Wednesday, October 1, 2008, from 6:30 p.m. to 9 p.m. at the Nashwauk-Keewatin High School gymnasium at 400 2nd Street, Nashwauk, MN. The MnDNR, with assistance from the Corps, will prepare and release to the public a Final SDD based upon the comments received during the scoping process. Significant issues and resources identified in the Final SDD will be addressed in the DEIS.

The DEIS will assess impacts of the proposed action and reasonable alternatives, identify and evaluate mitigation alternatives, and discuss potential environmental monitoring. Anyone who has an interest in participating in the development of the DEIS is invited to contact the St. Paul District, Corps of Engineers. Major issues identified to date for discussion in the DEIS are the impacts of the proposed project on:

1. Fish, wildlife, and ecologically sensitive resources.

2. Water resources, including: surface and groundwater resources; waters of the U.S., including wetlands; and receiving stream geomorphology.

3. Water quality, including: surface water runoff; and storm water management.

4. Air quality.

5. Cumulative impacts, including: Wildlife habitat loss/fragmentation and habitat corridor obstruction/landscape barriers; wetlands in the Swan River watershed; air quality in federally-administered Class I areas; and water quality and flow in Swan Lake and the Swan River.

Additional issues of interest may be identified through the public scoping process. We anticipate that the DEIS will be available to the public in April of 2009.

Issuing a permit for the expansion of an open pit taconite mine and expansion of a taconite ore processing facility is considered to be a major Federal action that may have a significant impact on the quality of the human environment. The project: (1) Would have a significant adverse effect on wetlands (which are special aquatic sites), and (2) has the potential to significantly affect water quality, groundwater, air quality, fish, and wildlife. Our environmental review will be conducted to meet the requirements of the National Environmental Policy Act of 1969, National Historic Preservation Act of 1966, Council of Environmental Quality Regulations, Endangered Species Act of 1973, Section 404 of the Clean Water Act, and other applicable laws and regulations.

Dated: July 30, 2008.
Jon L. Christensen,
Colonel, Corps of Engineers, District Engineer.

[FR Doc. E8-18019 Filed 8-5-08; 8:45 am]

BILLING CODE 3710-CY-P